DEPARTMENT OF THE INTERIOR

Office of the Secretary

[167D0102DM/DS64600000/DLSN00000.000000/DX.64601]

Notice of Senior Executive Service Performance Review Board Appointments

AGENCY: Office of the Secretary, Interior.

ACTION: Notice.

SUMMARY: This notice provides the names of individuals who have been appointed to serve as members of the Department of the Interior Senior Executive Service (SES) Performance Review Board.

DATES: These appointments are effective upon publication in the Federal Register.

FOR FURTHER INFORMATION CONTACT: Raymond Limon, Director, Office of Human Resources, Office of the Secretary, Department of the Interior, 1849 C Street NW., Washington, DC 20240, Telephone Number: (202) 208-5310.

SUPPLEMENTARY INFORMATION: The members of the Department of the Interior SES Performance Review Board are as follows:

ANDERSON, ALLYSON K.

ANDREW, JONATHAN M.

ANDROFF, BLAKE J.

APPLEGATE, JAMES D. R.

ARAGON, JOSE RAMON

ARROYO, BRYAN

AUSTIN, STANLEY J.

BAIL, KRISTIN MARA

BALES, JERAD D.

BARCHENGER, ERVIN J.

BATHRICK, MARK L.

BEALL, JAMES W.

BEAN, MICHAEL J.

BEARPAW, GEORGE WATIE

BEAUDREAU, TOMMY P.

BECK, RICHARD T.

BELIN, ALLETTA D.

BERRIGAN, MICHAEL J.

BERRY, DAVID A.

BIRDSONG, BRET CREECH

BLACK, MICHAEL S.

BLAIR, JOHN WATSON

BLANCHARD, MARY JOSIE

BLEDSOE DOWNES, ANN MARIE

BOLING, EDWARD A.

BOLTON, HANNIBAL

BOWKER, BRYAN L.

BRANUM, LISA A.

BROWN, LAURA B.

BROWN, WILLIAM Y

BRZEZINSKI, MARK F.

BUFFA, NICOLE

BURCH, MELVIN E.

BURCKMAN, JAMES N.

BURDEN, JOHN W.

BURKETT, VIRGINIA

BURNS, SYLVIA W.

CALDWELL, MICHAEL A.

CARDINALE, RICHARD T.

CARL, LEON M.

CARTER-PFISTERER, CAROLE

CASH, CASSIUS M.

CLARK, HORACE G.

CLEMENT, JOEL P.

COLANDER, BRANDI ADELE

CONNELL, JAMIE E.

CORDOVA-HARRISON, ELIZABETH

CRAFF, ROBERT C.

CRIBLEY, BUD C.

CRUICKSHANK, WALTER D.

CRUZAN, DARREN A.

CUMMINGS, JODY ALLEN

DARNELL, JOSEPH D.

DAVIS, MARK H.

DEARMAN, TONY L.

DEERINWATER, DANIEL J.

DOHNER, CYNTHIA

DOUGLAS, JAMES C.

DREHER, ROBERT GEOFFREY

DUMONTIER, DEBRA L.

DUNTON, RONALD L.

DUTSCHKE, AMY L.

EDSALL, DONNA LYNN

ELLIS, STEVEN A

ESTENOZ, SHANNON A.

ETHRIDGE, MAX M.

FAETH, LORRAINE V.

FARBER, MICHAEL D.

FERRERO, RICHARD C.

FERRITER, OLIVIA B.

FLANAGAN, DENISE A.

FORD, JEROME E.

FORREST, VICKI L.

FRAZER, GARY D.

FREEMAN, SHAREE M.

FREIHAGE, JASON E.

FROST, HERBERT C.

FULP, TERRANCE J.

GALLAGHER, KEVIN T.

GIDNER, JEROLD L.

GIMBEL, JENNIFER L.

GLENN, DOUGLAS A.

GLOMB, STEPHEN J.

GOKLANY, INDUR M.

GONZALES-SCHREINER, ROSEANN

GOULD, GREGORY J.

GREENBERGER, SARAH D.

GUERTIN, STEPHEN D.

HAMLEY, JEFFREY L.

HANNA, JEANETTE D.

HART, PAULA L.

HARTLEY, DEBORAH J.

HAUGRUD, KEVIN JACK

HAWBECKER, KAREN S.

HERBST, LARS T.

HILDEBRANDT, BETSY J.

HOPPER, ABIGAIL ROSS

HOSKINS, DAVID WILLIAM

HUMBERT, HARRY L.

HYUN, KAREN H.

ISEMAN, THOMAS M.

JAMES JR., JAMES D.

JOHNSTON, MICHAEL J.

JOSEPHSON, CLEMENTINE

KEABLE, EDWARD T.

KELLY, FRANCIS P.

KELLY, KATHERINE P.

KENDALL JR., JAMES J.

KIMBALL, SUZETTE M.

KINSINGER, ANNE E.

KLEIN, ELIZABETH A.

KNOX, VICTOR W.

KROPF, RAMSEY LAURSOO

KURTH, JAMES W.

LA COUNTE II, DARRYL D.

LAIRD, JOSHUA RADBILL

LANCE, LINDA L.

LAPOINTE, TIMOTHY L.

LAROCHE, DARRELL WILLIAM

LAURO, SALVATORE R.

LEE, LORRI J.

LEHNERTZ, CHRISTINE S.

LEITER, AMANDA C.

LIMON, RAYMOND A.

LODGE, CYNTHIA LOUISE

LOFTIN, MELINDA J.

LOHOEFENER, RENNE R.

LORDS, DOUGLAS A.

LOUDERMILK, WELDON B.

LUEBKE, THOMAS A.

LUEDERS, AMY L.

LYONS, JAMES R.

MABRY, SCOTT L.

MARTINEZ, CYNTHIA T.

MASICA, SUE E.

MAYTUBBY, BRUCE W.

MCCAFFERY, JAMES G.

MCDOWALL, LENA E.

MCKEOWN, MATTHEW J.

MEHLHOFF, JOHN J.

MELIUS, THOMAS O.

MILAKOFSKY, BENJAMIN E.

MONACO, JENNIFER ROMERO

MORRIS, DOUGLAS W.

MOSS, ADRIANNE L.

MULLER JR., BRUCE C .

MURILLO, DAVID G.

MURPHY, TIMOTHY M.

MUSSENDEN, PAUL A.

NEDD, MICHAEL D.

NEIMEYER, SARAH C.

NEUBACHER, DONALD L.

OBERNESSER, RICHARD

O'DELL, MARGARET G.

OLSEN, MEGAN C.

ONEILL, KEITH JAMES

ORR, L. RENEE

ORTIZ, HANKIE P.

OWENS, GLENDA HUDSON

PALUMBO, DAVID M.

PAYNE, GRAYFORD F.

PEREZ, JEROME E

PETERSON, PENNY LYNN

PFEIFFER, TAMARAH

PIERRE-LOUIS, ALESIA J.

PINTO, SHARON ANN

PLETCHER, MARY F.

PULA, NIKOLAO IULI

QUINLAN, MARTIN J.

QUINT, ROBERT J.

RAMOS, PEDRO M.

RAUCH, PAUL A.

REYNOLDS, MICHAEL T.

REYNOLDS, THOMAS G.

RHEES, BRENT B.

RICHARDSON, LIZETTE

RIDEOUT JR., STERLING J.

RIGGS, HELEN

ROBERSON, EDWIN L.

ROBERTS, LAWRENCE SCOTT

ROESSEL, CHARLES M.

ROSEN, DIANE K.

ROSS, JOHN W.

RUGEN, CATHERINE E.

RUHS, JOHN F.

RYAN, DENISE E.

RYAN, MICHAEL J.

SALERNO, BRIAN M.

SALOTTI, CHRISTOPHER P.

SARRI, KRISTEN JOAN

SAUVAJOT, RAYMOND MARC

SCHNEIDER, MARGARET N.

SCHOCK, JAMES H.

SHEEHAN, DENISE E.

SHEPARD, ERIC N.

SHOLLY, CAMERON H.

SHOPE, THOMAS D.

SIMMONS, SHAYLA F.

SINGER, MICHELE F.

SLACK, JAMES J.

SMILEY, KARLA J.

SMITH, MICHAEL R.

SOGGE, MARK K.

SONDERMAN, DEBRA E.

SOUZA, PAUL

SPEAKS, STANLEY M.

STEWARD, JAMES D.

STREATER, EDDIE R.

SUAZO, RAYMOND

TABER, TERESA RENEE

TAYLOR, WILLIE R.

TEITZ, ALEXANDRA ELIZABETH

THOMPSON, DIONNE E.

THOMPSON, THOMAS D.

THORNHILL, ALAN D.

THORSON, ROBYN

TOOTHMAN, STEPHANIE S.

TUGGLE, BENJAMIN N.

UBERUAGA, DAVID V.

VELA, RAYMOND DAVID

VELASCO, JANINE M.

VIETZKE, GAY E.

VOGEL, ROBERT A.

WAINMAN, BARBARA W.

WALKER, WILLIAM T.

WALSH, NOREEN E.

WASHBURN, ELIZABETH R

WASHBURN, JULIA L.

WAYSON, THOMAS C.

WEAVER, JESS D.

WEBER, WENDI

WELCH, RUTH L.

WENK, DANIEL N.

WERKHEISER, WILLIAM H.

WHITE, JOHN ETHAN

Authority: 5 CFR 430.311(a)(4).

Raymond Limon,
Director, Office of Human Resources.

[FR Doc. 2015-31676 Filed 12-16-15; 8:45 am]

BILLING CODE 4334-12-P